DEPARTMENT OF HEALTH AND HUMAN SERVICES

Health Resources and Services Administration

National Advisory Council on the National Health Service Corps; Request for Nominations for Members

AGENCY: Health Resources and Services Administration, HHS.

ACTION: Notice.

SUMMARY: The Health Resources and Services Administration (HRSA) is requesting nominations to the National Advisory Council (NAC) on the National Health Service Corps (NHSC). NAC was established by 42 U.S.C. 254j; Section 337 of the Public Health Service Act, and advises the Secretary of Health and Human Services (the Secretary) on issues related to implementation of NHSC and related programs.

DATES: The agency must receive nominations on or before June 18, 2007.

ADDRESSES: All nominations are to be submitted to the Tira Patterson, Executive Secretary, NAC on the NHSC, HRSA, Parklawn Building, Room 8A-55, 5600 Fishers Lane, Rockville, Maryland 20857.

FOR FURTHER INFORMATION CONTACT: Ms. Tira Patterson, Executive Secretary, NAC on the NHSC, HRSA at (301) 594-4140 or e-mail: tpatterson@hrsa.gov.

SUPPLEMENTARY INFORMATION: Under the authorities that established the NAC and the Federal Advisory Committee Act of October 6, 1972, 5 U.S.C. App., HRSA is requesting nominations for members of the NAC.

The NAC on the NHSC is a body of clinicians and health care administrators who possess knowledge of underserved communities and health care implementation and improvement. This cadre of health care experts can serve as a “frontline” source of information to NHSC senior level management. NAC is committed to effectively implementing its mandate to advise the Secretary and, by designation, the Administrator, HRSA.

The NAC:

• Serves as a forum to identify the priorities for the NHSC and bring forward and anticipate future program issues and concerns through ongoing communication with program staff, professional organizations, communities and program participants;

• Functions as a sounding board for proposed policy changes by utilizing the varying levels of expertise represented on the Council to advise on specific program areas; and

• Develops and distributes White Papers and briefs that clearly state issues and/or concerns relating to the NHSC with specific recommendations for necessary policy revisions.

Interested persons may nominate one or more qualified persons for membership on NAC. Nominations shall state that the nominee is willing to serve as a member of NAC and appears to have no conflicts of interest that would preclude the NAC membership. Potential candidates will be asked to provide detailed information concerning consultancies, research grants, or contracts to permit evaluation of possible sources of conflicts of interest. A curriculum vitae or resume should be submitted with the nomination.

The Department of Health and Human Services has special interest in assuring that women, minority groups, and the physically disabled are adequately represented on advisory committees; and therefore, extends particular encouragement to nominations for appropriately qualified female, minority, or disabled candidates.

Dated: May 11, 2007.
Caroline Lewis,
Associate Administrator for Management.

[FR Doc. E7-9545 Filed 5-17-07; 8:45 am]

BILLING CODE 4165-15-P